FEDERAL COMMUNICATIONS COMMISSION

47 CFR Part 73

[DA 01-1021; MM Docket No. 01-95; RM-10093]

Radio Broadcasting Services; Naches, Sunnyside and Benton City, Washington

AGENCY: Federal Communications Commission.

ACTION: Proposed rule.

SUMMARY: The Commission requests comments on a petition for rule making filed by Butterfield Broadcasting Corporation (“petitioner”) licensee of Stations KZTA(FM), Naches, Washington and KZTB(FM), Sunnyside, Washington. Petitioner proposes to substitute Channel 245C2 for 245A at Naches, and to reallot Channel 244A from Sunnyside to Benton City, Washington, as the community's first local transmission service. Channel 245C2 can be allotted at Naches at petitioner's requested site at coordinates NL 46-36-02 and WL 120-56-06 and Channel 244A can be reallotted from Sunnyside to Benton City in compliance with the Commission's minimum distance separation requirements at petitioner's requested site, at coordinates NL 46-14-48 and 120-25-40.

DATES: Comments must be filed on or before June 11, 2001, and reply comments on or before June 26, 2001.

ADDRESSES: Secretary, Federal Communications Commission, Washington, DC 20554. In addition to filing comments with the FCC, interested parties should serve the petitioner, as follows: Peter Gutmann, Esq., Pepper and Corazzini, 1776 K Street, NW., Suite 200, Washington, DC 20006. (Counsel to Petitioner).

FOR FURTHER INFORMATION CONTACT: Victoria M. McCauley, Mass Media Bureau, and (202) 418-2180.

SUPPLEMENTARY INFORMATION: This is a synopsis of the Commission's Notice of Proposed Rule Making, MM Docket No. 01-95 adopted April 11, 2001 and released April 20, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Washington is amended by removing Channel 245A at Naches and adding Channel 245C2 at Naches, and by removing Sunnyside, Channel 244A, and adding Benton City, Channel 244A.

Federal Communications Commission.
John A. Karousos,
Chief, Allocations Branch, Policy and Rules Division, Mass Media Bureau.

[FR Doc. 01-11174 Filed 5-3-01; 8:45 am]

BILLING CODE 6712-01-P